DEPARTMENT OF LABOR

Employment and Training Administration

[TA-W-57,945; TA-W-57,945A]

Polyvision Corporation; 13646 Route 402 Highway North Facility; Clymer, PA; 2170 Barr Slope Road Facility; Dixonville, PA; Notice of Revised Determination on Reconsideration

By letter dated December 5, 2005, Greater Pennsylvania Regional Council of Carpenters requested administrative reconsideration regarding the Department's Negative Determination Regarding Eligibility to Apply for Worker Adjustment Assistance, applicable to the workers of the subject firm.

The initial investigation resulted in a negative determination signed on October 21, 2005 and was based on the finding that imports of casework cabinets, marker and tack boards did not contribute importantly to worker separations at the subject plant and no shift of production to a foreign source occurred. The denial notice was published in the Federal Register on November 9, 2005 (70 FR 68099).

To support the request for reconsideration, the petitioner supplied additional information. The Department of Labor reviewed surveys of the firms to which the subject facility submitted bids and was not subsequently awarded the contracts. A further contact with the surveyed companies revealed the fact that all the bids were awarded to domestic bidders who manufacture case work cabinets, market boards and tack boards abroad. The loss of these contracts as a result of increased imports of case work cabinets, market boards and tack boards contributed importantly to the declines in sales and employment at the subject firm. The investigation further revealed that sales, production and employment at the subject firm declined during the relevant time period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Polyvision Corporation, Clymer, Pennsylvania (TA-W-57,945) and Polyvision Corporation, Dixonville, Pennsylvania (TA-W-57,945A), contributed importantly to the declines in sales or production and to the total or partial separation of workers at the subject firm. In accordance with the provisions of the Act, I make the following certification:

“All workers of Polyvision Corporation, Clymer, Pennsylvania (TA-W-57,945) and Polyvision Corporation, Dixonville, Pennsylvania (TA-W-57,945A) who became totally or partially separated from employment on or after September 8, 2004 through two years from the date of this certification, are eligible to apply for adjustment assistance under Section 223 of the Trade Act of 1974, and are eligible to apply for alternative trade adjustment assistance under Section 246 of the Trade Act of 1974.”

Signed in Washington, DC this 13th day of January 2006.
Elliott S. Kushner,
Certifying Officer, Division of Trade Adjustment Assistance.

[FR Doc. E6-800 Filed 1-23-06; 8:45 am]

BILLING CODE 4510-30-P